DEPARTMENT OF COMMERCE

International Trade Administration

[C-570-968]

Aluminum Extrusions From the People's Republic of China: Final Results of Countervailing Duty Administrative Review and Rescission of Review, in Part; 2019

AGENCY: Enforcement and Compliance, International Trade Administration, Department of Commerce.

SUMMARY: The Department of Commerce (Commerce) determines that countervailable subsidies are being provided to producers and exporters of aluminum extrusions from the People's Republic of China (China) during the period of review (POR), January 1, 2019, through December 31, 2019. In addition, we are rescinding the review for numerous companies for which the request for review was withdrawn.

DATES: Applicable February 9, 2022.

FOR FURTHER INFORMATION CONTACT: Davina Friedmann, AD/CVD Operations, Office VI, Enforcement and Compliance, International Trade Administration, U.S. Department of Commerce, 1401 Constitution Avenue NW, Washington, DC 20230; telephone: (202) 482-0698.

SUPPLEMENTARY INFORMATION:

Background

On August 6, 2021, Commerce published the Preliminary Results of this administrative review in the Federal Register.¹ We invited parties to comment on the Preliminary Results. On September 7, 2021, case briefs were filed by the following interested parties: Global Aluminum Distributor; Kingtom Aluminio S.R.L. (Kingtom); and JL Trading Co., Puertas Y Ventanas JM Inc., and Industrias Feliciano Al Inc.² On September 17, 2021, the Aluminum Fair Trade Committee (the petitioner) submitted a rebuttal brief.³ On December 2, 2021, Commerce extended the final results of review by 48 days, until January 21, 2021.⁴ On January 20, 2022, Commerce extended the final results by an additional 12 days, until February 2, 2022.⁵ For a full description of the events that occurred since the Preliminary Results, see the Issues and Decision Memorandum.⁶ On January 27, 2022, Commerce placed a memorandum on the record regarding Commerce's AFA determination with respect to Kingtom for the preliminary results of review (Kingtom AFA Memorandum) and invited interested parties to submit comments.⁷ On January 31, 2022, and on February 1, 2022, the petitioner and Kingtom, respectively, submitted comments on the Kingtom AFA Memorandum.⁸

¹ See Aluminum Extrusions from the People's Republic of China: Preliminary Results of the Countervailing Duty Administrative Review and Intent to Rescind, in Part; 2019, 86 FR 43173 (August 6, 2021) (Preliminary Results), and accompanying Preliminary Decision Memorandum.

² See Global Aluminum Distributor, LLC's Letter, “Aluminum Extrusions from the People's Republic of China; C-570-968; Case Brief,” dated September 4, 2021; see also Kingtom Aluminio S.R.L.'s Letter, “Case Brief of Kingtom Aluminio S.R.L.,” dated September 7, 2021; and JL Trading Corp.'s, Puertas Y Ventanas JM Inc.'s, and Industrias Feliciano Al Inc.'s Letter, “Aluminum Extrusions from the People's Republic of China: Case Brief,” dated September 7, 2021.

³ See Petitioner's Letter, “Aluminum Extrusions from the People's Republic of China: Rebuttal Brief,” dated September 16, 2021.

⁴ See Memorandum, “Aluminum Extrusions from the People's Republic of China: Extension of Deadline for Final Results of Countervailing Duty Administrative Review; 2019,” dated December 2, 2021.

⁵ See Memorandum, “Aluminum Extrusions from the People's Republic of China: Extension of Deadline for Final Results of Countervailing Duty Administrative Review; 2019,” dated January 19, 2022.

⁶ See Memorandum, “Decision Memorandum for Final Results of 2019 Administrative Review of Aluminum Extrusions from the People's Republic of China,” dated concurrently with, and hereby adopted by, this notice (Issues and Decision Memorandum).

⁷ See Memorandum, “Placement of `Kingtom AFA Memorandum' on the Record,” dated January 27, 2022.

⁸ See Petitioner's Letter, “Aluminum Extrusions from the People's Republic of China: Comments on Kingtom AFA Memorandu,” dated January 31, 2022; see also Kingtom's Letter, “Aluminum Extrusions from the People's Republic of China, Case No. C-570-968: Kingtom Response to Placement of AFA Memorandum on the Record,” dated February 1, 2022.

Scope of the Order 9

⁹ See Aluminum Extrusions from the People's Republic of China: Countervailing Duty Order, 76 FR 30653 (May 26, 2011) (Order).

The merchandise covered by the Order is aluminum extrusions from China. For the complete description of the scope of the Order, see Issues and Decision Memorandum.

Analysis of Comments Received

All issues raised in interested parties' briefs and comments are addressed in the Issues and Decision Memorandum. A list of the issues raised by interested parties, and to which Commerce responded in the Issues and Decision Memorandum, is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.

Changes Since the Preliminary Results

Based on our review and analysis of the comments received from parties, Commerce made changes to certain program-specific rates applied to Kingtom on the basis of adverse facts available (AFA). See AFA Calculation Memorandum.¹⁰

¹⁰ See Memorandum, “Administrative Review of Countervailing Duty Order on Aluminum Extrusions from the People's Republic of China: AFA Calculation Memorandum for the Final Results of Review; 2019,” dated February 2, 2022 (AFA Calculation Memorandum).

Methodology

Commerce is conducting this review in accordance with section 751(a)(l)(A) of the Tariff Act of 1930, as amended (the Act). For each of the subsidy programs found countervailable, we find that there is a subsidy, i.e., a government-provided financial contribution that gives rise to a benefit to the recipient, and the subsidy is specific.¹¹ For a full description of the methodology underlying all of Commerce's conclusions, including any determination that relied upon the use of AFA pursuant to section 776(a) and (b) of the Act, see the Issues and Decision Memorandum.

¹¹ See sections 771(5)(B) and (D) of the Act regarding financial contribution; section 771(5)(E) of the Act regarding benefit; and section 771(5A) of the Act regarding specificity.

Rescission of Administrative Review, in Part

In the Preliminary Results, we stated our intent to rescind the review with respect to companies named in the Initiation Notice for which all review requests were timely withdrawn in accordance with 19 CFR 351.213(d)(1). These companies are listed in Appendix II of this notice. For these companies, Commerce is rescinding the administrative review and will assess duties at rates equal to the rates of the cash deposits for estimated countervailing duties required at the time of entry, or withdrawn from warehouse, for consumption, during the POR, in accordance with 19 CFR 351.212(c)(1).¹²

¹² See Preliminary Results. In the Preliminary Results, Commerce inadvertently provided an incorrect list of companies on which it intended to rescind the administrative review at Appendix II. Commerce has included the correct list of companies for which it will rescind this administrative review, in accordance with the withdrawal of requests review submitted by the petitioner on October 8, 2020. See Petitioner's Letter, “Aluminum Extrusions from the People's Republic of China: Partial Withdrawal of Request for Administrative Review,” dated October 8, 2020.

Rate for Non-Selected Companies Under Review

For the companies not selected for individual examination, because we have not calculated rates for any company selected for individual examination, we have no such rates to use as a basis to determine the rate for companies not selected for individual examination in this review. Thus, we applied the above-de minimis, non-AFA countervailable subsidy rate from the most recently completed administrative review of the Order, in which we calculated a subsidy rate for an individual mandatory respondent, i.e., the 2014 administrative review of this Order.¹³ For further discussion, see the Issues and Decision Memorandum.

¹³ See Aluminum Extrusions from the People's Republic of China: Final Results and Partial Rescission of Countervailing Duty Administrative Review; 2014, 81 FR 92778 (December 20, 2016).

Final Results of Administrative Review

We determine the following final countervailable subsidy rates for the period January 1, 2019, through December 31, 2019: ¹⁴

¹⁴ See Preliminary Results; see also AFA Calculation Memorandum.

Company | Ad Valorem rate (percent)
CRRC Changzhou Auto Parts Co. Ltd | ¹⁵ 16.08
Jiangsu Asia-Pacific Light Alloy Technology Co Ltd | 242.56
Kanal Precision Aluminum Product Co. Ltd | 16.08
Kingtom Aluminio SRL | 242.56
Uniton Investment Ltd | 16.08
Wellste Material Co Ltd | 242.56

Disclosure

In this case, the only calculation to disclose is the calculation of the AFA rate assigned to certain respondents. Therefore, Commerce will disclose to the parties in this proceeding the calculation performed for these final results within five days of the date of publication of this notice in the Federal Register, in accordance with 19 CFR 351.224(b).

¹⁵ As stated in the Preliminary Results under the section titled, “Preliminary Rate for Non-Selected Companies Under Review,” this subsidy rate reflects the subsidy rate calculated for a mandatory respondent in the 2014 administrative review of this countervailing duty order.

Assessment Rates

Pursuant to 19 CFR 351.212(b)(2), Commerce will determine, and U.S. Customs and Border Protection (CBP) shall assess, countervailing duties on all appropriate entries of subject merchandise in accordance with the final results of this review, for the above-listed companies at the applicable ad valorem assessment rates, Commerce intends to issue assessment instructions, including assessment instructions for those companies for which we rescinded the review, to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties at the rates shown for each of the companies listed above on shipments of subject merchandise entered, or withdrawn from warehouse, for consumption on or after the date of publication of the final results of this administrative review. For all non-reviewed firms, Commerce will instruct CBP to continue to collect cash deposits of estimated countervailing duties at the most recent company-specific or all-others rate applicable to the company, as appropriate. These cash deposit requirements, when imposed, shall remain in effect until further notice.

Administrative Protective Order

This notice serves as a reminder to parties subject to administrative protective order (APO) of their responsibility concerning the destruction of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

We are issuing and publishing these results in accordance with sections 751(a)(1) and 777(i)(1) of the Act.

Dated: February 2, 2022.
Lisa W. Wang,
Assistant Secretary for Enforcement and Compliance.

Appendix I—List of Topics Discussed in the Issues and Decision Memorandum

I. Summary

II. Background

III. Scope of the Order

IV. Rescission of the Administrative Review, In Part

V. Rate for Companies Not Selected for Individual Examination

VI. Use of Facts Available and Application of Adverse Inferences

VII. Subsidy Programs Subject to Countervailable Duties

VIII. Changes Since the Preliminary Results

IX. Analysis of Comment

X. Recommendation

Appendix II—List of Companies for Which We Are Rescinding This Administrative Review

1. Allpower Display Co., Ltd

2. Amidi Zhuhai

3. Anderson International

4. Asia-Pacific Light Alloy (Nantong) Technology Co., Ltd.

5. Beauty Sky Technology Co. Ltd

6. Changshu Changsheng Aluminum Products Co., Ltd.

7. Chenming Industry and Commerce Shouguang Co., Ltd.

8. China International Freight Co. Ltd

9. China State Decoration Group Co., Ltd.

10. Custom Accessories Asia Ltd.

11. Everfoison Industry Ltd.

12. Foshan City Fangyuan Ceramic

13. Foshan City Nanhai Yongfeng Aluminum

14. Foshan City Top Deal Import and Export Co., Ltd.

15. Foshan Gold Bridge Import and Export Co. Ltd.

16. Foshan Golden Promise Import and Export Co., Ltd.

17. Foshan Guangshou Import and Export Co., Ltd.

18. Foshan Xingtao Aluminum Profile Co., Ltd.

19. Fujian Minfa Aluminum Inc.

20. Fujian Minfa Aluminum Co., Ltd.

21. Fuzhou Ruifuchang Trading Co., Ltd.

22. Fuzhou Sunmodo New Energy Equipment Co., Ltd.

23. Gebruder Weiss

24. Gold Bridge International

25. Grupo Emb

26. Grupo Europeo La Optica

27. Grupo Pe No Mato In

28. Guangdong Gaoming Guangtai Shicai

29. Guangdong Gaoxin Communication Equipment Industrial Co., Ltd.

30. Guangdong Golden China Economy

31. Guangdong Maoming Foreign Trade Enterprise Development Co.

32. Guangdong Taiming Metal Products Co., LTD.

33. Guangdong Victor Aluminum Co., Ltd.

34. Guangzhou Jintao Trade Company

35. Hangzhou Evernew Machinery & Equipment Co., Ltd.

36. Hangzhou Tonny Electric and Tools Co., Ltd.

37. Hefei Sylux Imp. & Exp. Co., Ltd.

38. Hong Kong Dayo Company, Ltd.

39. Huazhijie Plastic Products

40. Huiqiao International Shanghai

41. Ilshim Almax

42. Jer Education Technology

43. Jiangsu Weatherford Hongda Petroleum Equipment Co., Ltd.

44. Jiangsu Yizheng Haitian Aluminum Industrial

45. Jiang Yin Ming Ding Aluminum & Plastic Products Co. Ltd

46. Jilin Qixing Aluminum Industries Co., Ltd.

47. Jin Lingfeng Plastic Electrical Appliance

48. Larkcop International Co Ltd

49. Ledluz Co Ltd

50. Liansu Group Co. Ltd

51. Links Relocations Beijing

52. Marshell International

53. Modular Assembly Technology

54. Ningbo Deye Inverter Technology

55. Ningbo Hightech Development

56. Ningbo Winjoy International Trading

57. Orient Express Container

58. Ou Chuang Plastic Building Material (Zhejiang) Co., Ltd.

59. Pentagon Freight Service

60. Pro Fixture Hong Kong

61. Qingdao Sea Nova Building

62. Qingdao Yahe Imports and Exports

63. Rollease Acmeda Pty

64. Sewon

65. Shandong Huajian Aluminum Industry

66. Shanghai EverSkill M&E Co., Ltd.

67. Shanghai Jingxin Logistics

68. Shanghai Ouma Crafts Co, Ltd.

69. Shanghai Phidix Trading

70. Sinogar Aluminum

71. Sunvast Trade Shanghai

72. Suzhou Mingde Aluminum

73. Tai-Ao Aluminum (Taishan) Co., Ltd.

74. Taizhou Puan Lighting Technology

75. Transwell Logistics Co., Ltd.

76. United Aluminum

77. Wanhui Industrial China

78. Wenzhou Yongtai Electric Co., Ltd.

79. Winstar Power Technology Limited

80. Wisechain Trading Ltd.

81. Wuxi Lotus Essence

82. Wuxi Rapid Scaffolding Engineering

83. Wuxi Zontai Int'l Corporation Ltd.

84. Xuancheng Huilv Aluminum Industry Co., Ltd.

85. Yekalon Industry Inc

86. Yonn Yuu Enterprise Co., Ltd.

87. Yuyao Royal Industrial

88. Zhejiang Guoyao Aluminum Co., Ltd.

89. Zhejiang Shiner Import and Export

90. Zhongshan Broad Windows and Doors and Curtain

91. ZL Trade Shanghai

[FR Doc. 2022-02650 Filed 2-8-22; 8:45 am]

BILLING CODE 3510-DS-P